DEPARTMENT OF DEFENSE

Office of the Secretary

Privacy Act of 1974; System of Records

AGENCY: Office of the Secretary, DoD.

ACTION: Notice to transfer and delete systems of records.

SUMMARY: The Defense Security Service (DSS) is transferring two systems of records to the Defense Human Resources Activity, Office of the Secretary of Defense (OSD). The systems of records are identified as V5-05, entitled ‘Security Research Center Espionage Database”, and V5-07, entitled ‘Security Research Center Export Violations Database’.

The systems of records will be known as DHRA 01, entitled ‘PERSEREC Espionage Database’, and DHRA 03, ‘PERSEREC Export Violations Database’, respectively. Before being transferred, administrative changes have been made to the notices.

DATES: The changes will be effective on December 16, 2002, unless comments are received that would result in a contrary determination.

ADDRESSES: Send comments to OSD Privacy Act Coordinator, Records Management Section, Washington Headquarters Services, 1155 Defense Pentagon, Washington, DC 20301-1155.

FOR FURTHER INFORMATION CONTACT: Mr. David Bosworth at (703) 601-4728.

SUPPLEMENTARY INFORMATION: The Office of the Secretary of Defense notices for systems of records subject to the Privacy Act of 1974 (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: November 4, 2002.
Patricia L. Toppings,
Alternate OSD Federal Register Liaison Officer, Department of Defense.

Deletions

System Name:

V5-05; Security Research Center Espionage Database (June 1, 1999, 64 FR 29281).

Reason: The responsibility for this system of records is being transferred to the Defense Human Resources Activity (DHRA), Office of the Secretary of Defense. The system of records will be known as DHRA 01, entitled ‘PERSEREC Espionage Database’.

System Name:

V5-07; Security Research Center Export Violations Database (June 1, 1999, 64 FR 29281).

Reason: The responsibility for this system of records is being transferred to the Defense Human Resources Activity (DHRA), Office of the Secretary of Defense. The system of records will be known as DHRA 03, entitled ‘PERSEREC Export Violations Database’.

* * * * *

System Name:

DHRA 01; PERSEREC Espionage Database.

System Location:

Defense Personnel Security Research and Education Center, 99 Pacific Street, Building 455E, Monterey, CA 93940-2481.

Categories of Individuals Covered by the System:

Individuals who have been arrested and convicted of espionage or related offense; those who have been prosecuted for espionage who committed suicide before trial or sentencing; and those arrested or under warrant for arrest for espionage who were not prosecuted because of death, suicide, or defection.

Categories of Records in the System:

Background information including individual's name, Social Security Number, date of birth, city/state/country of birth, education, marital status, gender, race, civilian or military member, rank (if military), security clearance (if applicable), years of federal service (if applicable), occupational category, job organization and location, age began espionage, first espionage contact, whether volunteered or recruited, receiving country, payment (if any), foreign relatives (if any), motivation-related, substance abuse (if applicable), date of arrest, arresting agency, date of sentence, sentence, and duration of espionage. Sources for records are newspaper and magazine articles, the biographies of spies, and similar open source works are included in paper files. Some of the missing variables have been filled in using information supplied by the agencies that investigated the case.

Authority for Maintenance of the System:

5 U.S.C. 301, Departmental Regulations; DoD Directive 5210.79, and ASD(C3I) October 31, 1991 memo, Subject: Request for Exemption from DoD Directive 5200.27; and E.O. 9397 (SSN);

Purpose(s):

To analyze factors which may contribute to acts of espionage and assemble a body of knowledge useful to improved personnel security procedures. This information will permit examination of espionage trends and will help identify personal and situational variables of interest to policy-makers and others concerned with personnel security issues.

Aggregate statistics will be reported to DoD and other Government agencies in a technical report prepared from open-sources and containing some illustrative material mentioning some of the more famous cases by name.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the OSD compilation of systems of records notices apply to this system.

Policies and Practices for Storing, Retrieving, Accessing, Retaining, and Disposing of Records in the System:

Storage:

Maintained on paper, computer and computer output products, and in microform.

Retrievability:

Records may be retrieved by name and Social Security Number.

Safeguards:

Records are stored under lock and key in secure containers, and in a computer system with intrusion safeguards.

Retention and Disposal:

Records are treated as permanent pending a determination by the NARA of authority for disposition of the records.

System Manager(s) and Address:

Director, Defense Personnel Security Research and Education Center, 99 Pacific Street, Building 455E, Monterey, CA 93940-2481.

Notification Procedure:

Individuals seeking to determine whether this system of records contains information about themselves should address written inquiries to Director, Defense Personnel Security Research and Education Center, 99 Pacific Street, Building 455E, Monterey, CA 93940-2481.

The inquiry should include full name and Social Security Number.

Record Access Procedures:

Individuals seeking access to records about themselves contained in this system of records should address a written request to Director, Defense Personnel Security Research and Education Center, 99 Pacific Street, Building 455E, Monterey, CA 93940-2481.

The inquiry should include full name and Social Security Number.

Contesting Record Procedures:

The OSD rules for accessing records, for contesting contents and appealing initial agency determinations are published in OSD Administrative Instruction 81; 32 CFR part 311; or may be obtained from the system manager.

Record Source Categories:

Information is obtained from newspaper and magazine articles and similar open source documents. Some of the missing variables were filled in using information supplied by the agencies that investigated the case.

Exemptions Claimed for the System:

None.

System Name:

DHRA 03; PERSEREC Export Violations Database.

System Location:

Defense Personnel Security Research and Education Center, 99 Pacific Street, Building 455E, Monterey, CA 93940-2481.

Categories of Individuals Covered by the System:

Individuals who have been convicted of violating U.S. export control laws.

Categories of Records in the System:

Extracts of reports, court records, newspaper, magazine, and other open source materials.

Authority for Maintenance of the System:

5 U.S.C. 301, Departmental Regulations; and ASD(C3I) July 20, 1993 memo, Subject: Exemption from DoD Directive 5200.27.

Purpose(s):

To analyze factors which may contribute to acts of illegal technology transfer in violation of U.S. export controls and to assemble a body of knowledge useful for improving security procedures. This information will permit examination of trends in illegal technology transfer since 1981 and help identify personal and situational variables of interest to policy makers and others concerned with counteracting export control violations. Aggregate statistics will be reported in a technical report. The report will include some vignettes of the more famous cases, using the individual's name, based on material found in open sources.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the OSD compilation of systems of records notices apply to this system.

Policies and Practices for Storing, Retrieving, Accessing, Retaining, and Disposing of Records in the System:

Storage:

Maintained on paper, computer and computer output products, and in microform.

Retrievability:

Records are retrieved by individual's name.

Safeguards:

Records are stored under lock and key in secure containers, and in a computer system with intrusion safeguards.

Retention and Disposal:

Records are treated as permanent pending a determination by the NARA of authority for disposition of the records.

System Manager(s) and Address:

Director, Defense Personnel Security Research and Education Center, 99 Pacific Street, Building 455E, Monterey, CA 93940-2481.

Notification Procedure:

Individuals seeking to determine whether this system of records contains information about themselves should address written inquiries to Director, Defense Personnel Security Research and Education Center, 99 Pacific Street, Building 455E, Monterey, CA 93940-2481.

The inquiry should include the individual's full name.

Record Access Procedures:

Individuals seeking access to records about themselves contained in this system of records should address a written request to Director, Defense Personnel Security Research and Education Center, 99 Pacific Street, Building 455E, Monterey, CA 93940-2481.

The inquiry should include the individual's full name.

Contesting Record Procedures:

The OSD rules for accessing records, for contesting contents and appealing initial agency determinations are published in OSD Administrative Instruction 81; 32 CFR part 311; or may be obtained from the system manager.

Record Source Categories:

Justice Department Export Control Cases listing, newspaper and magazine articles and other open source documents.

Exemptions Claimed for the System:

None.

[FR Doc. 02-28958 Filed 11-14-02; 8:45 am]

BILLING CODE 5001-08-P